CIVIL RIGHTS COMMISSION

Sunshine Act Meeting Notice

AGENCY: United States Commission on Civil Rights.

ACTION: Notice of Commission telephonic business meeting.

DATES: Wednesday, July 18, 2018, at 3:00 p.m. ET.

ADDRESSES: Meeting to take place by telephone.

FOR FURTHER INFORMATION CONTACT: Brian Walch, (202) 376-8371, publicaffairs@usccr.gov.

SUPPLEMENTARY INFORMATION: This business meeting is open to the public by telephone only.

Participant Access Instructions: Listen Only, Toll Free: 1-877-260-1479; Conference ID: 713-3156. Please dial in 5-10 minutes prior to the start time.

Meeting Agenda

I. Approval of Agenda

II. Discussion of Discovery Plan

III. Adjourn Meeting.

Dated: July 11, 2018.
Brian Walch,
Director, Communications and Public Engagement.

[FR Doc. 2018-15110 Filed 7-11-18; 4:15 pm]

BILLING CODE 6335-01-P